DEPARTMENT OF DEFENSE

Department of the Air Force

Record of Decision for the Environmental Impact Statement United States Air Force F-35A Operational Beddown Air Force Reserve Command

AGENCY: Department of the Air Force, Department of the Navy, Department of Defense.

ACTION: Notice of availability of record of decision.

SUMMARY: On December 22, 2020, the United States Air Force (USAF) signed the Record of Decision (ROD) for the Environmental Impact Statement: United States Air Force F-35A Operational Beddown Air Force Reserve Command. The Department of the Navy (Navy) previously signed the same ROD on October 29, 2020.

ADDRESSES: Mr. Hamid Kamalpour, AFCEC/CZN, 2261 Hughes Avenue, Suite 155, JBSA-Lackland Air Force Base, Texas 78236-9853, (210) 925-2738; HQAFRC.F-35.EIS@us.af.mil. The complete text of the ROD is available on the project website at https://www.afrc-f35a-beddown.com/, along with the Final EIS and supporting documents.

SUPPLEMENTARY INFORMATION: The USAF has decided to beddown its 7th Operational squadron (Ops 7) of up to 24 F-35A Primary Aerospace Vehicles Authorized (PAA) with 2 Backup Aircraft Inventory (BAI) in one squadron under the Air Force Reserve Command at Naval Air Station Joint Reserve Base Fort Worth, Texas. The Navy concurs in the Air Force's decision.

The USAF and Navy decision documented in the ROD was based on matters discussed in the Final Environmental Impact Statement, inputs from the public and regulatory agencies, and other relevant factors. The USAF is the lead agency with the Navy as a cooperating agency. The Final Environmental Impact Statement was made available to the public on August 21, 2020 through a Notice of Availability in the Federal Register (Volume 85, Number 163, Page 51693) with a waiting period that ended on September 21, 2020.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane S. Paris,
Acting Air Force Federal Register Liaison Officer.

[FR Doc. 2021-01991 Filed 1-29-21; 8:45 am]

BILLING CODE 5001-10-P